COMMITTEE FOR PURCHASE FROM PEOPLE WHO ARE BLIND OR SEVERELY DISABLED

Procurement List; Additions and Deletions

AGENCY: Committee for Purchase From People Who Are Blind or Severely Disabled.

ACTION: Additions to and deletions from Procurement List.

SUMMARY: This action adds to the Procurement List products and services to be furnished by nonprofit agencies employing persons who are blind or have other severe disabilities, and deletes from the Procurement List products previously furnished by such agencies.

EFFECTIVE DATE: January 19, 2003.

ADDRESSES: Committee for Purchase From People Who Are Blind or Severely Disabled, Jefferson Plaza 2, Suite 10800, 1421 Jefferson Davis Highway, Arlington, Virginia 22202-3259.

FOR FURTHER INFORMATION CONTACT: Sheryl D, Kennerly, (703) 603-7740.

SUPPLEMENTARY INFORMATION:

Additions

On June 28, August 30, September 13, September 20, October 4, October 18, October 25, and November 8, 2002, the Committee for Purchase From People Who Are Blind or Severely Disabled published notice (67 FR 43582, 55776, 58014, 59249, 62224, 64351, 65531 and 68091) of proposed additions to the Procurement List. After consideration of the material presented to it concerning capability of qualified nonprofit agencies to provide the products and services and impact of the additions on the current or most recent contractors, the Committee has determined that the products and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

Accordingly, the following products and services are added to the Procurement List:

Products

Product/NSN: Dual Head Stethoscope 6515-00-NIB-0115

NPA: Central Association for the Blind & Visually Impaired, Utica, New York

Contract Activity: Veterans Affairs National Acquisition Center, Hines, Illinois

Product/NSN: Flashlight, Aluminum

6230-00-NIB-0004 (2AA, Black)

6230-00-NIB-0005 (2AA, Blue)

6230-00-NIB-0006 (2AA, Red)

6230-00-NIB-0007 (2AA, Silver)

6230-00-NIB-0008 (2D, Black)

6230-00-NIB-0009 (2D, Blue)

6230-00-NIB-0010 (2D, Red)

6230-00-NIB-0011 (2D, Silver)

6230-00-NIB-0012 (3D, Black)

6230-00-NIB-0013 (3D, Blue)

6230-00-NIB-0014 (3D, Red)

6230-00-NIB-0015 (3D, Silver)

6230-00-NIB-0016 (4D, Black)

6230-00-NIB-0017 (4D, Blue)

6230-00-NIB-0018 (4D, Red)

6230-00-NIB-0019 (4D, Silver)

6230-00-NIB-0020 (5D, Black)

6230-00-NIB-0021 (5D, Blue)

6230-00-NIB-0022 (5D, Red)

6230-00-NIB-0023 (5D, Silver)

NPA: Central Association for the Blind & Visually Impaired, Utica, NY

Contract Activity: Office Supplies & Paper Products Acquisition Center, New York, NY

Services

Service Type/Location: Base Supply Center, Federal Law Enforcement Training Center, Brunswick, Georgia

NPA: L.C. Industries For The Blind, Inc., Durham, North Carolina

Contract Activity: Federal Law Enforcement Training Center (FLETC)

Service Type/Location: Janitorial/Custodial, Army Reserve Center (Fort Harrison), Indianapolis, Indiana

NPA: Child-Adult Resource Services, Inc., Green Castle, Indiana

Contract Activity: HQ, 88th Regional Support Command, Fort Snelling, Minnesota

Service Type/Location: Laundry Service, Andrews Air Force Base, Maryland

NPA: Rappahannock Goodwill Industries, Inc., Fredericksburg, Virginia

Contract Activity: 89th Contracting Squadron, Andrews AFB, Maryland

Service Type/Location: Lawn Service Naval Reserve Center, Cleveland, Ohio

NPA: Goodwill Industries of Greater Cleveland, Inc., Cleveland, Ohio

Contract Activity: Officer in Charge of Contracts, NAVFAC, Crane, Indiana

Service Type/Location: Personal Environmental Protection & Survival Equipment Warehousing and Distribution Services, U.S. Army Natick Research Development & Engineering Center, Natick, Massachusetts

NPA: Peckham Vocational Industries, Inc., Lansing, Michigan

Contract Activity: U.S. Army Natick Soldier Center, Natick, Massachusetts

Deletions

I certify that the following action will not have a significant impact on a substantial number of small entities. The major factors considered for this certification were:

1. The action may not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 46-48c) in connection with the products deleted from the Procurement List.

After consideration of the relevant matter presented, the committee has determined that the products listed below are no longer suitable for procurement by the Federal Government under 41 U.S.C. 46-48c and 41 CFR 51-2.4.

Accordingly, the following products are deleted from the Procurement List:

Products

Product/NSN: Pencil, Mechanical

7520-00-285-5822

7520-00-285-5823

7520-00-285-5826

NPA: San Antonio Lighthouse, San Antonio, Texas

Contract Activity: Office Supplies & Paper Products Acquisition Center, New York, New York

Sheryl D. Kennerly,
Director, Information Management.

[FR Doc. 02-32146 Filed 12-19-02; 8:45 am]

BILLING CODE 6353-01-P